DEPARTMENT OF THE INTERIOR

Bureau of Land Management

Limitation on Use of Credit and Debit Cards for Payments to the Bureau of Land Management

Authority: 31 U.S.C. 3720, 31 CFR 206.4, 43 CFR 3103.1-1.

AGENCY: Bureau of Land Management, Interior.

ACTION: Notice.

SUMMARY: The Bureau of Land Management has established a $99,999.99 limit on payments made by credit and debit cards. Under U.S. Department of the Treasury regulations, federal agencies are required to use electronic fund transfers for collections and payments, as long as it is cost effective to do so. Fees for large dollar debit and credit card transactions are prohibitive. Cardholders cannot be required to pay any part of the fees which financial institutions charge, directly or indirectly, through any increase in price or otherwise. Customers who need to tender payments larger than the cap are encouraged to make electronic payments using the Automated Clearing House or Federal Wire Transfer procedures.

EFFECTIVE DATE: February 1, 2005.

ADDRESSES: Bureau of Land Management, National Business Center, Attention: Alice Sonne (BC-621), PO Box 25047, Denver, CO 80225-0047.

FOR FURTHER INFORMATION CONTACT: Jay Douglas, BLM (202) 452-0336 or Alice Sonne, BLM (303) 236-6332.

SUPPLEMENTARY INFORMATION: Effective February 1, 2005, the Bureau of Land Management will not accept credit or debit card payments for any amount greater than $99,999.99 for any purpose. Multiple same-day transactions of smaller amounts, which in their total exceed the cap, cannot be used to bypass this requirement. Detailed guidance about how to make electronic payments is available from each Bureau State Office. A list of State offices is available at the Bureau's external Web site (http://www.blm.gov/nhp/directory/index.htm) and at Title 43 Code of Federal Regulations Subpart 1821.10. Personal and corporate checks are acceptable forms of payment.

Thomas F. Boyd,
Director, National Business Center.

[FR Doc. 05-1592 Filed 1-27-05; 8:45 am]

BILLING CODE 4310-AG-P